BROADCASTING BOARD OF GOVERNORS

Sunshine Act Meetings

DATE AND TIME: Wednesday, August 21, 2013, 9:15 a.m. EDT.

PLACE: Broadcasting Board of Governors, Cohen Building, Room 3321, 330 Independence Ave. SW., Washington, DC 20237.

SUBJECT: Notice of Closed Meeting of the Broadcasting Board of Governors.

SUMMARY: The members of the Broadcasting Board of Governors (BBG) will meet in a closed session to consider the appointment of the Chief Financial Officer. This meeting should be closed to public observation pursuant to 5 U.S.C. 552b(c)(6) in order to protect the privacy interests of candidates considered but not selected for the position. In accordance with the Government in the Sunshine Act and BBG policies, the meeting will be recorded and a transcript of the proceedings, subject to the redaction of information protected by 5 U.S.C. 552b(c)(6), will be made available to the public. The publicly-releasable transcript will be available for download at www.bbg.gov within 21 days of the date of the meeting.

Information regarding member votes to close the meeting and expected attendees can also be found on the Agency's public Web site.

CONTACT PERSON FOR MORE INFORMATION: Persons interested in obtaining more information should contact Paul Kollmer-Dorsey at (202) 203-4545.

Paul Kollmer-Dorsey,
Deputy General Counsel.

[FR Doc. 2013-20223 Filed 8-16-13; 11:15 am]

BILLING CODE 8610-01-P